DEPARTMENT OF ENERGY

Federal Energy Regulatory Commission

[Docket Nos. CP02-11-000, CP02-12-000 and CP02-13-000]

Western Frontier Pipeline Company, L.L.C.; Notice of Application

October 31, 2001.

On October 24, 2001, Western Frontier Pipeline Company, L.L.C. (Western Frontier), 3800 Frederica Street, Owensboro, Kentucky 42301, filed in Dockets No. CP02-11-000, CP02-12-000, and CP02-13-000 an application pursuant to section 7(c) of the Natural Gas Act (NGA) and part 157 of the Commission's Rules and Regulations for a certificate of public convenience and necessity authorizing Western Frontier to construct and operate a new interstate natural gas pipeline having a capacity of 540,000 Dth/d per day, all as more fully set forth in the application which is on file with the Commission and open to public inspection. Copies of this filing are on file with the Commission and are available for public inspection. This filing may also be viewed on the web at http://www.ferc.gov using the “RIMS” link, select “Docket#” and follow the instructions (call 202-208-2222 for assistance).

Specifically, Western Frontier proposes to construct:

(a) Approximately 398.45 miles of new 30-inch diameter pipeline beginning at the existing Cheyenne Hub in Weld County, Colorado and traversing eastern Colorado and western Kansas before terminating in Beaver County, Oklahoma;

(b) Approximately 9.67 miles of 16-inch diameter lateral pipeline extending west from the proposed 30-inch mainline in Adams County, Colorado;

(c) A 10,000 horsepower compressor station at the northern terminus of the 30-inch mainline in Weld County, Colorado;

(d) A 20,000 horsepower compressor station in Adams County, Colorado;

(e) Nine measurement facilities with interconnecting pipeline; and

(f) Auxiliary support facilities such as block valves and pig traps.

Western Frontier also requests that the Commission (1) approve Western Frontier's proposed recourse rates for transportation service, and approve its Pro Forma Tariff, including the authority to enter into negotiated rate agreements; (2) issue Western Frontier a blanket certificate of public convenience and necessity pursuant to part 284, Subpart G, of the Commission's regulations, authorizing it to provide open access transportation service to others; and (3) issue Western Frontier a blanket certificate of public convenience and necessity pursuant to part 157, Subpart F, of the commission's regulations, authorizing certain construction, operation, and abandonment activities.

Western Frontier states that it has thus far signed transportation precedent agreements with Marathon Oil Company (Marathon), Williams Energy Marketing and Trading and Trading Company (WEM&T), Utilicorp United, Inc. (Utilicorp), and Entergy Power Generation Corporation (Entergy) for a total of 365,000 Dth/d (approximately 67.6%) of the 540,000 Dth/d design capacity of the project. The initial term for all these agreements is ten years, except for Marathon, who has committed to a five-year term with an option to extend an additional two years. Western Frontier states that active negotiations are underway with additional shippers for use of the remaining capacity.

Western Frontier states that the purpose of the proposed project is to connect the mid-continent interstate pipeline grid and associated markets to prolific supply basins in the cental Rockies. Their intention is to provide the region with a reliable and competitive alternative gas supply that could support both existing and future energy demands.

Western Frontier states that the estimated cost of the proposed facilities is approximately $365,700,000. Western Frontier requests a preliminary determination on the non-environmental aspects of the project by March 6, 2002, and a final certificate order no later than December 11, 2002, so that the project can be completed by the proposed in-service date of November 1, 2003.

Any questions regarding this application should be directed to David N. Roberts, Manager, Certificates & Tariffs, Western Frontier Pipeline Company, L.L.C., P.O. Box 20008, Owensboro, Kentucky 42304 (Phone No. 270-688-6712).

There are two ways to become involved in the Commission's review of this project. First, any person wishing to obtain legal status by becoming a party to the proceedings for this project should, on or before November November 21, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-27766 Filed 11-5-01; 8:45 am]

BILLING CODE 6717-01-P